DEPARTMENT OF HOMELAND SECURITY

U.S. Citizenship and Immigration Services

[CIS No. 2698-21; DHS Docket No. USCIS-2013-0006]

RIN 1615-ZB77

Extension and Redesignation of Somalia for Temporary Protected Status

AGENCY: U.S. Citizenship and Immigration Services, Department of Homeland Security.

ACTION: Notice of temporary protected status extension and redesignation.

SUMMARY: Through this notice, the Department of Homeland Security (DHS) announces that the Secretary of Homeland Security (Secretary) is extending the designation of Somalia for Temporary Protected Status (TPS) for 18 months, from September 18, 2021, through March 17, 2023, and redesignating Somalia for 18 months, effective September 18, 2021 through March 17, 2023. The extension allows currently eligible TPS beneficiaries to retain TPS through March 17, 2023, so long as they otherwise continue to meet the eligibility requirements for TPS. The redesignation of Somalia allows additional individuals who have been continuously residing in the United States since July 19, 2021 to obtain TPS, if otherwise eligible.

DATES: Extension of Designation of Somalia for TPS: The 18-month extension of the TPS designation of Somalia is effective September 18, 2021, and will remain in effect through March 17, 2023. The 60-day re-registration period for existing beneficiaries runs from July 22, 2021 through September 20, 2021. (Note: It is important for re-registrants to timely re-register during this 60-day period and not to wait until their EADs expire.)

Redesignation of Somalia for TPS: The 18-month redesignation of Somalia for TPS is effective September 18, 2021, and will remain in effect through March 17, 2023. The initial registration period for new applicants under the Somalia TPS redesignation begins on July 22, 2021 and will remain in effect through March 17, 2023. For more information, see SUPPLEMENTARY INFORMATION.

FOR FURTHER INFORMATION CONTACT: You may contact Andria Strano, Acting Chief, Humanitarian Affairs Division, Office of Policy and Strategy, U.S. Citizenship and Immigration Services, U.S. Department of Homeland Security, by mail at 5900 Capital Gateway Drive, Camp Springs, MD 20746, or by phone at 800-375-5283.

ADDRESSES: For further information on TPS, including guidance on the registration and re-registration process and additional information on eligibility, please visit the USCIS TPS web page at http://www.uscis.gov/tps. You can find specific information about this extension of Somalia's TPS designation by selecting “Somalia” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at http://www.uscis.gov, or visit the USCIS Contact Center at uscis.gov/contactcenter.

Further information will also be available at local USCIS offices upon publication of this notice.

SUPPLEMENTARY INFORMATION: In general, individuals must be given an initial registration period of no less than 180 days to register for TPS, but the Secretary has discretion to provide for a longer registration period. See 8 U.S.C. 1254a(c)(1)(A)(iv). Historically, the length of the initial registration period has varied. Compare 66 FR 14214 (March 9, 2001) (18 months initial registration period for applicants under TPS designation for El Salvador) with 80 FR 36346 (June 24, 2015) (180-day initial registration period for applicants under TPS designation for Nepal). In recent years this period has generally been limited to the statutory minimum of 180 days, although later extensions of the initial registration period have also been announced for some countries. See, e.g., 81 FR 4051 (Jan. 25, 2016) (setting 180-day initial registration period during extension and redesignation of South Sudan for TPS); 78 FR 1866 (Jan. 9, 2013) (setting 180-day initial registration period during extension and redesignation of Sudan for TPS); but see 75 FR 39957 (July 13, 2010) (extension of previously announced initial 180-day registration period for Haiti TPS applicants to allow more time for individuals to apply). After evaluating whether to limit the initial registration period for TPS under this new designation of Somalia to the statutory minimum of 180 days, DHS has determined that it will provide the full 18 months of this designation for applicants to file their initial registration Form I-821 and, if desired, Form I-765 to obtain employment authorization documentation. Limiting the initial registration period to 180-days may place a burden on applicants who may be otherwise eligible for TPS. In addition, permitting registration throughout the entirety of the designation period could reduce the operational burden on USCIS, as incoming applications may be spread out over a longer period of time. This extended registration period is both in keeping with the humanitarian purpose of TPS and will better advance the goal of ensuring “the Federal Government eliminates sources of fear and other barriers that prevent immigrants from accessing government services available to them.” See Executive Order 14012, Restoring Faith in Our Legal Immigration Systems and Strengthening Integration and Inclusion Efforts for New Americans, 86 FR 8277.

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this notice, DHS sets forth procedures necessary for eligible nationals of Somalia (or individuals having no nationality who last habitually resided in Somalia) to (1) re-register for TPS and to apply for renewal of their EADs with USCIS or (2) submit an initial registration application under the redesignation and apply for an EAD.

Re-registration is limited to individuals who have previously registered for TPS under the designation of Somalia and whose applications have been granted.

For individuals who have already been granted TPS under Somalia's designation, the 60-day re-registration period runs from July 22, 2021 through September 20, 2021. USCIS will issue new EADs with a March 17, 2023 expiration date to eligible Somali TPS beneficiaries who timely re-register and apply for EADs. Given the time frames involved with processing TPS re-registration applications, DHS recognizes that not all re-registrants may receive new EADs before their current EADs expire on September 17, 2021. Accordingly, through this Federal Register notice, DHS automatically extends the validity of EADs previously issued under the TPS designation of Somalia for 180 days, through March 16, 2022. Therefore, TPS beneficiaries can show their EADs with: (1) A September 17, 2021, expiration date on the face of the card and (2) an A-12 or C-19 category code, as proof of continued employment authorization through March 16, 2022. This notice explains how TPS beneficiaries and their employers may determine which EADs are automatically extended and how this affects the Form I-9, Employment Eligibility Verification, E-Verify, and USCIS Systematic Alien Verification for Entitlements (SAVE) processes.

Individuals who have a Somalia TPS application (Form I-821) and/or Application for Employment Authorization (Form I-765) that was still pending as of July 22, 2021 do not need to file either application again. If USCIS approves an individual's Form I-821, USCIS will grant the individual TPS through March 17, 2023. Similarly, if USCIS approves a pending TPS-related Form I-765, USCIS will issue the individual a new EAD that will be valid through the same date. There are currently approximately 447 beneficiaries under Somalia's TPS designation.

Under the redesignation, individuals who currently do not have TPS may submit an initial application during the initial registration period that runs from July 22, 2021 and runs through the full length of the redesignation period ending March 17, 2023. In addition to demonstrating continuous residence in the United States since July 19, 2021 and meeting other eligibility criteria, initial applicants for TPS under this redesignation must demonstrate that they have been continuously physically present in the United States since September 18, 2021, the effective date of this redesignation of Somalia, before USCIS may grant them TPS. The DHS Office of Immigration Statistics has estimated that approximately 100 individuals may become newly eligible for TPS under the redesignation of Somalia.

What is Temporary Protected Status (TPS)?

• TPS is a temporary immigration status granted to eligible nationals of a country designated for TPS under the INA, or to eligible individuals without nationality who last habitually resided in the designated country.

• During the TPS designation period, TPS beneficiaries are eligible to remain in the United States, may not be removed, and are authorized to obtain EADs so long as they continue to meet the requirements of TPS.

• TPS beneficiaries may also apply for and be granted travel authorization as a matter of discretion. Upon return from such authorized travel, TPS beneficiaries retain the same immigration status they had prior to the travel.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Somalia designated for TPS?

Somalia was initially designated on September 16, 1991, on the basis of extraordinary and temporary conditions in Somalia that prevented nationals of Somalia from safely returning. See Designation of Nationals of Somalia for Temporary Protected Status, 56 FR 46804 (Sept. 16, 1991). Somalia's designation for TPS has been consecutively extended by multiple administrations since its initial designation in 1991. Additionally, Somalia was redesignated for TPS in 2001, based on extraordinary and temporary conditions. See Extension and Redesignation of Somalia under Temporary Protected Status Program, 66 FR 46288 (Sept. 4, 2001). In 2012, Somalia was again redesignated for TPS on the basis of extraordinary and temporary conditions and under the separate basis of ongoing armed conflict. See Extension and Redesignation of Somalia for Temporary Protected Status, 77 FR 25723 (May 1, 2012). Somalia's 2012 TPS designation was subsequently extended in 2013, 2015, 2017, 2018, and most recently in 2020 for 18 months based on ongoing armed conflict and extraordinary and temporary conditions. See Extension of the Designation of Somalia for Temporary Protected Status, 85 FR 14229 (March 11, 2020).

What authority does the Secretary have to extend the designation of Somalia for TPS?

Section 244(b)(1) of the INA, 8 U.S.C. 1254a(b)(1), authorizes the Secretary, after consultation with appropriate agencies of the U.S. Government (Government), to designate a foreign state (or part thereof) for TPS if the Secretary determines that certain country conditions exist.¹ The decision to designate any foreign state (or part thereof) is a discretionary decision, and the TPS statute states there is no judicial review of any determination with respect to the designation, extension, or termination of a designation.² The Secretary, in his or her discretion, may then grant TPS to eligible nationals of that foreign state (or individuals having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

² See INA, section 244(b)(5)(A). This issue of judicial review remains the subject of ongoing litigation. See, e.g., Ramos v. Wolf, 975 F.3d 872 (9th Cir. 2020), petition for en banc rehearing filed Nov. 30, 2020 (No. 18-16981); Saget v. Trump, 375 F. Supp. 3d 280 (E.D.N.Y. 2019), appeal pending, No. No. 19-1685 (2d Cir.).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Somalia for TPS?

In addition to extending an existing TPS designation, the Secretary, after consultation with appropriate Government agencies, may redesignate a country (or part thereof) for TPS. See section 244(b)(1) of the Act, 8 U.S.C. 1254a(b)(1); see also section 244(c)(1)(A)(i) of the Act, 8 U.S.C. 1254a(c)(1)(A)(i) (requiring that “the alien has been continuously physically present since the effective date of the most recent designation of the state”) (emphasis added).³

³ The extension and redesignation of TPS for Somalia is one of several instances in which the Secretary and, prior to the establishment of DHS, the Attorney General have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which initial TPS applicants must demonstrate that they have been “continuously resid[ing]” in the United States. See section 244(c)(1)(A)(ii) of the Act, 8 U.S.C. 1254a(c)(1)(A)(ii). The Secretary has determined that the “continuous residence” date for applicants for TPS under the redesignation of Somalia shall be July 19, 2021. Initial applicants for TPS under this redesignation must also show they have been “continuously physically present” in the United States since September 18, 2021, which is the effective date of the Secretary's redesignation, of Somalia. See section 244(c)(1)(A)(i) of the Act, 8 U.S.C. 1254a(c)(1)(A)(i). For each initial TPS application filed under the redesignation, the final determination of whether the applicant has met the “continuous physical presence” requirement cannot be made until September 18, 2021. USCIS, however, will issue employment authorization documentation, as appropriate, during the registration period in accordance with 8 CFR 244.5(b).

Why is the Secretary extending the TPS designation for Somalia and simultaneously redesignating Somalia for TPS through March 17, 2023?

DHS has reviewed country conditions in Somalia. Based on the review, including input received from DOS, the Secretary has determined that an 18-month extension is warranted because the ongoing armed conflict and extraordinary and temporary conditions supporting Somalia's 2012 TPS redesignation persist. The Secretary has further determined that the conditions support redesignating Somalia for TPS under section 244(b)(1)(A) and (C) of the Act and is changing the “continuous residence” and “continuous physical presence” dates that applicants must meet to be eligible for TPS.

The ongoing armed conflict in Somalia, along with natural disasters and contagious disease outbreaks, have worsened an already severe humanitarian crisis. Since DHS last extended TPS for Somalia, a dramatic upsurge in violence, severe drought, flooding, and the spread of desert locusts have contributed to worsening food insecurity and internal displacement.⁴ Moreover, an outbreak of cholera in conjunction with the COVID-19 pandemic presented major challenges for a healthcare system that had already been severely weakened by ongoing conflict. These conditions have left a large portion of the population in need of humanitarian assistance.⁵ Numerous factors impede the delivery of humanitarian aid, including difficulty accessing areas affected by climate-related disasters, general insecurity, and most notably threats to aid workers and restrictions on the presence and work of humanitarian agencies. ⁶

⁴ Humanitarian Response Plan Somalia, The UN Office for the Coordination of Humanitarian Affairs, February 2021, pg. 7.

⁵ Somalia Key Figures, The UN Office for the Coordination of Humanitarian Affairs, https://m.reliefweb.int/country/216/som?figures-display=all (last visited May 5, 2021).

⁶ Humanitarian Response Plan Somalia, The UN Office for the Coordination of Humanitarian Affairs, February 2021, pg. 5; 2020 Country Reports on Human Rights Practices: Somalia, U.S. Department of State, April 7, 2021, pg. 15.

The insurgent group Al-Shabaab continues to present a significant risk. Becoming bolder since early 2019, Al-Shabaab regularly attacks major towns and conducts deadly attacks on civilian and military targets alike.⁷ The organization continues to maintain its capability to infiltrate Mogadishu and carry out high-profile attacks.⁸ The group conducted a monthly average of 140 attacks between November 2020 and February 2021.⁹ The group continues to maintain a stronghold in the southern parts of Somalia, such as the Lower Juba and Lower Shabelle regions, and also retains operational military capacity in the northern federal member states of Puntland ¹⁰ and Somaliland.¹¹

⁷ Felbab-Brown, Vanda, The Problem with Militias in Somalia, United Nations Center for Policy Research, 2020 pg. 120.

⁸ Situation in Somalia Report of the Secretary-General (November 2020-February 2021), UN Security Council, February 17, 2021 pg. 3.

⁹ Situation in Somalia Report of the Secretary-General (November 2020-February 2021), UN Security Council, February 17, 2021, pg.4.

¹⁰ Puntland is a region in the north-east part of Somalia that declared itself as an autonomous state in August 1998. Puntland Profile, BBC News, last updated on March 11, 2019.

¹¹ Somaliland declared independence from Somalia in 1991. While not internationally recognized as an independent state, Somaliland has a political system, government institutions, a police force, and its own currency. Somaliland Profile, BBC News, last updated on December 14, 2017; Felbab-Brown, Vanda, The Problem with Militias in Somalia, United Nations Center for Policy Research, 2020, pg. 12.

Interclan ¹² conflicts remain a major concern, particularly in Hiiraan, Galmudug, Lower Shabelle, and Middle Shabelle regions in southern and central Somalia, and in the Sool region, bordering Puntland and Somaliland.¹³ Beginning in April 2020 and throughout the year, the area around Wanlaweyn in Lower Shabelle region saw fierce interclan fighting between clan militias.¹⁴ Civilians continue to bear the brunt of the ongoing interclan violence.¹⁵ This violence led to the destruction of property and livelihoods, including via land grabbing; limited free movement and access to humanitarian assistance; and taxation of communities (including through forced child recruitment).¹⁶

¹² Information on Somali clans and sub-clan divisions is available in the Genealogical Table of Somali Clans, UNHCR, March 15, 2004.

¹³ Humanitarian Response Plan Somalia, The UN Office for the Coordination of Humanitarian Affairs, February 2021, pg.13.

¹⁴ 2020 Country Reports on Human Rights Practices: Somalia, U.S. Department of State, April 7, 2021, pg. 4.

¹⁵ 2020 Country Reports on Human Rights Practices: Somalia, U.S. Department of State, April 7, 2021, pg. 5.

¹⁶ Humanitarian Response Plan Somalia, The UN Office for the Coordination of Humanitarian Affairs, February 2021, pg. 12-13.

Security forces and private landowners continued to forcibly evict ¹⁷ internally displaced persons (IDPs).¹⁸ In September of 2020, 100,000 IDPs reportedly were evicted from their temporary homes through that point in the year.¹⁹

¹⁷ Internally displaced persons (IDPs) are generally most affected by forced evictions in Mogadishu, Somalia's capital. Generally, these IDPs—fleeing from insecurity and natural disasters in rural areas—establish temporary settlements in abandoned areas in Mogadishu, where they pay rent to “gatekeepers”—the de facto managers of these informal settlements. These evictions are linked to rising land and property values, and clan power dynamics among one of the most powerful clans—the Hawiye clan in the Mogadishu area. The combination of these factors has led to forced evictions of IDPs, usually with force and without any prior notice. UnSettlement: Urban displacement in the 21st century, Internal Displacement Monitoring Centre, November 2018, pg. 5-7.

¹⁸ Somalia 2020, Amnesty International, 2021.

¹⁹ Somalia 2020, Amnesty International, 2021.

Women and girls in Somalia face high rates of gender-based violence, and IDPs are disproportionately impacted.²⁰ This includes abductions, female genital mutilation/cutting (FGM/C), and early and forced marriage, as well as reported incidents of rape and gang rape by state agents, militias associated with clans, and unidentified armed men.²¹ Al-Shabaab also committed gender-based violence,²² including forced marriages in areas under its control.²³ There are also reports of rape and sexual exploitation and abuse by government forces, including by the Somali National Army (SNA) and the African Union Mission in Somalia (AMISOM) forces.²⁴

²⁰ 2020 Country Reports on Human Rights Practices: Somalia, U.S. Department of State, April 7, 2021, pg. 30-31.

²¹ 2020 Country Reports on Human Rights Practices: Somalia, U.S. Department of State, April 7, 2021, pg. 30-31.

²² 2020 Country Reports on Human Rights Practices: Somalia, U.S. Department of State, April 7, 2021, pg. 14.

²³ Situation in Somalia Report of the Secretary-General (November 2020-February 2021), UN Security Council, February 17, 2021, pg. 10.

²⁴ 2020 Country Reports on Human Rights Practices: Somalia, U.S. Department of State, April 7, 2021, pg. 5.

All parties to the conflict in Somalia continued to commit serious abuses against children, including those involving killings, maiming, and recruitment and use of child soldiers.²⁵ Between November 2020 and February 2021, some 1,112 children (924 boys and 188 girls) were affected by serious abuses.²⁶ During this period, 395 children were abducted, 254 children were killed or maimed, 375 children were recruited and used as child soldiers, and 88 girls were victims of rape and other forms of sexual violence.²⁷ Al-Shabaab was responsible for most of these abuses.²⁸ Al-Shabaab also continued to recruit and use children to directly participate in hostilities, and used them in suicide attacks and, at times, as human shields for other fighters.²⁹ Al-Shabaab's recruitment practices included raiding schools, madrassas, and mosques, and harassing and coercing clan elders to recruit children.³⁰

²⁵ Somalia Word Report: Events of 2020, Human Rights Watch, 2021.

²⁶ Situation in Somalia Report of the Secretary-General (November 2020-February 2021), UN Security Council, February 17, 2021, pg. 9-10.

²⁷ Situation in Somalia Report of the Secretary-General (November 2020-February 2021), UN Security Council, February 17, 2021, pg. 9-10.

²⁸ Situation in Somalia Report of the Secretary-General (November 2020-February 2021), UN Security Council, February 17, 2021, pg. 9-10.

²⁹ 2020 Country Reports on Human Rights Practices: Somalia, U.S. Department of State, April 7, 2021, pg. 14.

³⁰ 2020 Country Reports on Human Rights Practices: Somalia, U.S. Department of State, April 7, 2021, pg. 14.

In April 2021, the UN Office for the Coordination of Humanitarian Affairs (UNOCHA) reported that “80 percent of the country is experiencing drought conditions,” ³¹ with drought affecting the three main regions of Somalia—South/Central, Puntland and Somaliland.³² Below average rainfall from October to December 2020, followed by harsher and unusually warm temperatures in January to March 2021, worsened drought conditions across the country in March and April 2021.³³ Ongoing water shortages linked to drought are driving steep water price increases in many regions, and a growing number of people rely on expensive water delivered by trucks to meet their basic needs, contributing to worsening humanitarian conditions.³⁴ As of April 2021, more than 116,000 people have been displaced due to drought and resultant water scarcity.³⁵

³¹ Somalia: Drought Conditions Update, The UN Office for the Coordination of Humanitarian Affairs, April 26, 2021.

³² Somalia Drought Update, Food and Agriculture Organization of the United Nations, April 22, 2021, pg. 1.

³³ Somalia Drought Update, Food and Agriculture Organization of the United Nations, April 22, 2021, pg. 1.

³⁴ Fact Sheet #2: Somalia-Complex Emergency, U.S. Agency for International Development, April 28, 2021, pg. 2.

³⁵ Fact Sheet #2: Somalia-Complex Emergency, U.S. Agency for International Development, April 28, 2021, pg. 2.

Somalia has also experienced ongoing problems related to flooding. In October 2019, heavy rains displaced close to 270,000 people; the worst affected region was in Hiiraan, in central Somalia.³⁶ In 2020, ongoing flooding events displaced 919,000 people and destroyed infrastructure, property and 144,000 hectares of agricultural fields.³⁷

³⁶ Hundreds of thousands of people affected by floods in central Somalia, MSF, November 5, 2019.

³⁷ Humanitarian Response Plan Somalia, The UN Office for the Coordination of Humanitarian Affairs, February 2021, pg. 11.

In December 2020, locust swarms began forming in central regions of Somalia,³⁸ spreading to southern and northern regions in early 2021 and affecting close to 300,000 hectares of land and 700,000 people.³⁹ On February 2, 2020, the Somali government declared a national state of emergency due to the impact of the locusts.⁴⁰ UNOCHA reported in February 2021 that Somalia experienced its worst desert locust upsurge in 25 years, damaging tens of thousands of hectares of cropland and pasture with potentially severe consequences for agriculture and pastoral-based livelihoods.⁴¹

³⁸ Humanitarian Response Plan Somalia, The UN Office for the Coordination of Humanitarian Affairs, February 2021, pg. 12.

³⁹ Situation in Somalia Report of the Secretary-General (November 2020-February 2021), UN Security Council, February 17, 2021 pg. 10.

⁴⁰ Situation in Somalia—Report of the Secretary-General (S/2020/121), UN Security Council, February 13, 2020, pg. 11.

⁴¹ Humanitarian Response Plan Somalia, The UN Office for the Coordination of Humanitarian Affairs, February 2021, pg. 12.

In an October 2020 report, the Food and Agriculture Organization of the United Nations (FAO) and the World Food Programme (WFP) identified Somalia as one of 20 “acute food insecurity hotspots,” ⁴² and noted that Somalia is facing “high levels of acute food insecurity.” ⁴³ The Food Security Nutrition Analysis Unit (FSNAU) for Somalia assessed that the “drivers of acute food insecurity in Somalia included the compounding effects of poor and erratic rainfall distribution, flooding, Desert Locust infestation, socioeconomic impacts of COVID-19, and conflict.” ⁴⁴ As of March 2021, an estimated 2.7 million people are facing acute food insecurity.⁴⁵ Moreover, in March 2021, UNOCHA also reported that in 2020, children constitute over 60% of those in need in Somalia, and malnutrition rates among children remain among the worst in the world.⁴⁶

⁴² FAO-WFP early warning analysis of acute food insecurity hotspots: October 2020, Food and Agriculture Organization of the United Nations and the World Food Programme, Nov. 2020, pg. 6.

⁴³ FAO-WFP early warning analysis of acute food insecurity hotspots: October 2020, Food and Agriculture Organization of the United Nations and the World Food Programme, Nov. 2020, pg. 13.

⁴⁴ Up to 2.7 million in Somalia face acute food insecurity Crisis (IPC Phase 3) or worse outcomes through mid-2021, Food Security and Nutrition Analysis Unit, February 4, 2021.

⁴⁵ Fact Sheet #2: Somalia-Complex Emergency, U.S. Agency for International Development, April 28, 2021, pg. 1.

⁴⁶ 2021 Somalia Humanitarian Needs Overview, The UN Office for the Coordination of Humanitarian Affairs pg. 7.

COVID-19 has directly impacted Somalia's health care system, which is limited.⁴⁷ In June 2020, the World Health Organization (WHO) assessed that Somalia's health system, decimated by decades of civil war, ranked 194 out of 195 on the Global Health Security Index.⁴⁸ While the global standard for healthcare workers is 25 per 100,000 people, Somalia has only 2 healthcare workers per 100,000 people.⁴⁹ With only 15 ICU beds for a population of more than 15 million, it is listed among the least-prepared countries in the world to detect and report epidemics, or to execute a rapid response that might mitigate further spread of disease.⁵⁰

⁴⁷ COVID-19, locusts, flooding: WHO and triple threat in Somalia, World Health Organization, June 23, 2020.

⁴⁸ COVID-19, locusts, flooding: WHO and triple threat in Somalia, World Health Organization, June 23, 2020.

⁴⁹ COVID-19, locusts, flooding: WHO and triple threat in Somalia, World Health Organization, June 23, 2020.

⁵⁰ COVID-19, locusts, flooding: WHO and triple threat in Somalia, World Health Organization, June 23, 2020.

Somalia has also been experiencing a cholera outbreak since December 2017, following floods that affected areas near the Jubba and Shabelle rivers in southern and central Somalia.⁵¹ According to WHO, in 2020 Somalia had 6,589 suspected cases of cholera and 33 reported deaths.⁵² In April 2020, flash floods caused by heavy rains led to the contamination of water sources, thus causing an increase in the number of cholera cases.⁵³

⁵¹ Outbreak update—Cholera in Somalia, World Health Organization, March 23, 2021.

⁵² Outbreak update—Cholera in Somalia, World Health Organization, December 27, 2020.

⁵³ Outbreak update—Cholera in Somalia, World Health Organization, March 23, 2021.

Humanitarian organizations operating in Somalia face heightened challenges, as security constraints continued to hinder the delivery of humanitarian assistance.⁵⁴ UNOCHA reported that in 2020, “a staggering 255 incidents occurred impacting humanitarian operations, in which 15 humanitarian workers were killed, compared to 151 incidents in 2019.” ⁵⁵

⁵⁴ Humanitarian Response Plan Somalia, The UN Office for the Coordination of Humanitarian Affairs, February 2021, pg. 5.

⁵⁵ Humanitarian Response Plan Somalia, The UN Office for the Coordination of Humanitarian Affairs, February 2021, pg. 5.

In December 2019, the World Bank reported that “[d]ecades of civil war and political fragmentation have made Somalia one of the poorest countries in Sub-Saharan Africa. Nearly seven of 10 Somalis live in poverty, the sixth-highest rate in the region.” ⁵⁶ While the World Bank stated in March 2020 that “Somalia reached a key economic milestone in obtaining debt relief,” ⁵⁷ the African Development Bank assessed that Somalia's economy was also affected by “reduced foreign direct investment, as investors shied away during contentious elections that were postponed, a shrinkage in remittances because of the global recession, and bans on livestock exports by the Gulf countries.” ⁵⁸

⁵⁶ From data to development: Poverty and policy in Somalia, World Bank Blogs, December 09, 2019.

⁵⁷ The International Monetary Fund and the World Bank determined that Somalia had taken the necessary steps to begin receiving debt relief. For additional details on these requirements, please see Somalia to Receive Debt Relief under the Enhanced HIPC Initiative, World Bank, March 25, 2020.

⁵⁸ Somalia Economic Outlook, African Development Bank (last visited on May 7, 2021).

Based upon this review and after consultation with appropriate U.S. Government agencies, the Secretary has determined that:

• The conditions supporting Somalia's designation for TPS continue to be met. See INA section 244(b)(3)(A) and (C), 8 U.S.C. 1254a(b)(3)(A) and (C).

• There continues to be an ongoing armed conflict in Somalia and, due to such conflict and the accompanying humanitarian crisis that has been worsened by, among other things, the COVID-19 pandemic, requiring the return to Somalia of Somali nationals (or individuals having no nationality who last habitually resided in Somalia) would pose a serious threat to their personal safety. See INA section 244(b)(1)(A), 8 U.S.C. 1254a(b)(1)(A).

• There continue to be extraordinary and temporary conditions in Somalia that prevent Somali nationals (or individuals having no nationality who last habitually resided in Somalia) from returning to Somalia in safety, and it is not contrary to the national interest of the United States to permit Somali TPS beneficiaries to remain in the United States temporarily. See INA section 244(b)(1)(C), 8 U.S.C. 1254a(b)(1)(C).

• The designation of Somalia for TPS should be extended for an 18-month period, from September 18, 2021, through March 17, 2023. See INA section 244(b)(3)(C), 8 U.S.C. 1254a(b)(3)(C).

• Due to the conditions described above, Somalia should be simultaneously redesignated for TPS effective September 18, 2021, through March 17, 2023. See section 244(b)(1)(A) and (C) and (b)(2) of the Act, 8 U.S.C. 1254a(b)(1)(A) and (C) and (b)(2).

• For the redesignation, the Secretary has determined that initial TPS applicants must demonstrate that they have continuously resided in the United States since July 19, 2021.

• Initial TPS applicants under the redesignation must demonstrate that they have been continuously physically present in the United States since September 18, 2021, the effective date of the redesignation of Somalia for TPS.

• There are approximately 447 current Somalia TPS beneficiaries who are expected to be eligible to re-register for TPS under the extension.

• It is estimated that approximately 100 additional individuals may be eligible for TPS under the redesignation of Somalia. This population includes Somali nationals in the United States in nonimmigrant status or without immigration status.

Notice of Extension of the TPS Designation and Redesignation of Somalia for TPS

By the authority vested in me as Secretary under INA section 244, 8 U.S.C. 1254a, I have determined, after consultation with the appropriate Government agencies, the conditions supporting Somalia's designation for TPS continue to be met. See INA section 244(b)(3)(A), 8 U.S.C. 1254a(b)(3)(A). On the basis of this determination, I am simultaneously extending the existing designation of TPS for Somalia for 18 months, from September 18, 2021, through March 17, 2023, and redesignating Somalia for TPS for the same 18-month period. See INA section 244(b)(1)(A), (b)(1)(C) and (b)(2); 8 U.S.C. 1254a(b)(1)(A), (b)(1)(C), and (b)(2).

Alejandro N. Mayorkas,
Secretary, U.S. Department of Homeland Security.

Required Application Forms and Application Fees To Register or Re-Register for TPS

To register or re-register for TPS based on the designation of Somalia, you must submit an Application for Temporary Protected Status (Form I-821). If you are filing an initial application, you must pay the fee for the Form I-821. If you can demonstrate an inability to pay the fee, you may request a fee waiver by submitting a Request for a Fee Waiver (Form I-912). If you are filing an application for re-registration, you do not need to pay the fee for the Form I-821. There is no Form I-821 fee for re-registration. See 8 CFR 244.17. You may be required to pay the biometric services fee. If you can demonstrate an inability to pay the biometric services fee, you may request to have the fee waived. Please see additional information under the “Biometric Services Fee” section of this notice.

Through this Federal Register notice, your existing EAD issued under the TPS designation of Somalia with the expiration date of September 17, 2021, is automatically extended for 180 days, through March 16, 2022. If you want to obtain a new EAD valid through March 17, 2023, you must file an Application for Employment Authorization (Form I-765) and pay the Form I-765 fee (or request a fee waiver). If you do not want a new EAD, you do not have to file Form I-765 and pay the Form I-765 fee. If you do not want to request a new EAD now, you may also file Form I-765 at a later date and pay the fee (or request a fee waiver), provided that you still have TPS or a pending TPS application. However, you are strongly encouraged to file your application for a new EAD as early as possible to avoid gaps in the validity of your employment authorization documentation and to ensure that you receive your new EAD by March 16, 2022.

If you are applying for initial registration and want an EAD, you must file and pay the fee for the Form I-765. If you do not want to request an EAD now, you may also file Form I-765 at a later date and pay the fee (or request a fee waiver), provided that you still have TPS or a pending TPS application. You may file the application for a new EAD either prior to or after your current EAD has expired.

Everyone must provide their employer with documentation showing that they have the legal right to work in the United States. You do not need to have an EAD, but you can obtain one and it will prove your legal right to work.

If you have a Form I-821 or Form I-765 that was still pending as of July 22, 2021, then you do not need to file either application again. If USCIS approves your pending TPS application, USCIS will grant you TPS through March 17, 2023. Similarly, if USCIS approves your pending TPS-related Form I-765, it will be valid through the same date.

For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years of age and older. Those applicants must generally submit a biometric services fee. As previously stated, if you can demonstrate an inability to pay the biometric services fee, you may be able to have the fee waived. You can request a fee waiver by submitting a Request for Fee Waiver (Form I-912). For more information on the application forms and fees for TPS, please visit the USCIS TPS web page at www.uscis.gov/tps. USCIS may require you to visit an Application Support Center so we can capture your biometrics. For additional information on the USCIS biometrics screening process, please see the USCIS Customer Profile Management Service Privacy Impact Assessment, available at www.dhs.gov/privacy.

Refiling a TPS Initial Registration Application After Receiving Notice That USCIS Did Not Grant the Fee Waiver Request

You should file as soon as possible so USCIS can process your application and issue any EAD promptly, if you requested one. If USCIS denies your fee waiver request related to your initial TPS application, you must refile your Form I-821 for TPS along with the required fees no later than March 17, 2023, to continue seeking initial TPS. If USCIS does not grant your fee waiver request, you may also refile your Form I-765, with fee, either with your Form I-821 or at a later time as long as it is within the period that Somalia is designated for TPS, if you choose.

Note: An initial applicant for TPS must pay the Form I-821 filing fee and applicants age 14 or older must also pay the biometric services fee, unless USCIS grants a fee waiver. However, if you decide to wait to request an EAD, you do not have to file the Form I-765 or pay the associated Form I-765 fee (or request a fee waiver) at the time of registration. You may wait to seek an EAD until after USCIS has approved your TPS registration application or at any later date you decide you want to request an EAD as long as TPS for Somalia continues. To register for TPS, you only need to file the Form I-821 with the $50 filing fee and the biometric services fee, if applicable (or request a fee waiver).

Refiling a TPS Re-Registration Application After Receiving Notice That the Fee Waiver Request Was Not Granted

You should file as soon as possible so USCIS can process your application and issue any EAD promptly, if you requested one. Properly filing early will also give you time to refile your application before the deadline, if USCIS does not grant your fee waiver request. If you receive a notice that USCIS did not grant your fee waiver request, and you are unable to refile by the re-registration deadline, you may still refile your Form I-821 with the biometrics fee. USCIS will review this situation to determine whether you established good cause for late TPS re-registration. However, if possible, we urge you to refile within 45 days of the date on any USCIS notice that we did not grant you a fee waiver. See INA section 244(c)(3)(C); 8 U.S.C. 1254a(c)(3)(C); 8 CFR 244.17(b). For more information on good cause for late re-registration, visit the USCIS TPS web page at http://www.uscis.gov/tps. If USCIS does not grant your fee waiver request, you may also refile your Form I-765 with the fee either with your Form I-821 or at a later time, if you choose.

Note: A re-registering TPS beneficiary age 14 and older must pay the biometric services fee (but not the Form I-821 filing fee), or request a fee waiver, when filing a TPS re-registration application. However, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometric services fee, if applicable (or request a fee waiver).

Mailing Information

Mail your application for TPS to the proper address in Table 1.

Table 1—Mailing Addresses
If you would like to send your application by: | Then, mail your application to:
U.S. Postal Service | U.S. Citizenship and Immigration Services, Attn: TPS Somalia, P.O. Box 6943, Chicago, IL 60680-6943.
FedEx, UPS, or DHL | U.S. Citizenship and Immigration Services, Attn: TPS Somalia (Box 6943), 131 S Dearborn St., 3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When you are re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Somalia.”

Employment Authorization Document (EAD)

How can I obtain information on the status of my TPS application and EAD request?

To get case status information about your TPS application, including the status of an EAD request, you can check Case Status Online at http://www.uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic 180-day extension of my current EAD through March 16, 2022, using this Federal Register notice?

Yes. Regardless of your country of birth, provided that you currently have a Somalia TPS-based EAD with an expiration date of September 17, 2021, on the face of the card, bearing the notation A-12 or C-19 under Category, this notice automatically extends your EAD through March 16, 2022. Although this Federal Register notice automatically extends your EAD through March 16, 2022, you must re-register timely for TPS in accordance with the procedures described in this Federal Register notice to maintain your TPS and employment authorization.

When hired, what documentation may I show to my employer as evidence of employment authorization and identity when completing Form I-9?

You can find the Lists of Acceptable Documents on the third page of Form I-9 as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt for List A, List B, or List C documents as described in the Form I-9 instructions. Employers may not reject a document based on a future expiration date. You can find additional information about Form I-9 on the I-9 Central web page at http://www.uscis.gov/I-9Central.

An EAD is an acceptable document under List A. See the section “How do my employer and I complete Form I-9 using my automatically extended EAD for a new job?” of this Federal Register notice for further information. If your EAD has an expiration date of September 17, 2021, and states A-12 or C-19 under Category, it has been extended automatically by virtue of this Federal Register notice and you may choose to present your EAD to your employer as proof of identity and employment eligibility for Form I-9 through March 16, 2022, unless your TPS has been withdrawn or your request for TPS has been denied.

What documentation may I present to my employer for Form I-9 if I am already employed but my current TPS-related EAD is set to expire?

Even though we have automatically extended your EAD, your employer is required by law to ask you about your continued employment authorization. Your employer may need to re-inspect your automatically extended EAD to check the Card Expires date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through March 16, 2022, but you are not required to do so. The last day of the automatic EAD extension is March 16, 2022. Before you start work on March 17, 2022, your employer is required by law to reverify your employment authorization in Section 3 of Form I-9. By that time, you must present any document from List A or any document from List C on Form I-9 Lists of Acceptable Documents, or an acceptable List A or List C receipt described in the Form I-9 instructions to reverify employment authorization.

Your employer may not specify which List A or List C document you must present and cannot reject an acceptable receipt.

Can my employer require that I provide any other documentation to prove my status, such as proof of my Somali citizenship or a Form I-797C showing I re-registered for TPS?

No. When completing Form I-9, including reverifying employment authorization, employers must accept any documentation that appears on the Form I-9 Lists of Acceptable Documents that reasonably appears to be genuine and that relates to you, or an acceptable List A, List B, or List C receipt. Employers do not need to reverify List B identity documents. Therefore, employers may not request proof of Somali citizenship or proof of re-registration for TPS when completing Form I-9 for new hires or reverifying the employment authorization of current employees. If you present an EAD that USCIS has automatically extended, employers should accept it as a valid List A document so long as the EAD reasonably appears to be genuine and relates to you. Refer to the Note to Employees section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before March 17, 2022:

1. For Section 1, you should:

a. Check “An alien authorized to work until” and enter March 16, 2022, as the “expiration date”; and

b. Enter your Alien Number/USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a Card Expires date of September 17, 2021;

b. Write in the document title;

c. Enter the issuing authority;

d. Provide the document number; and

e. Write March 16, 2022, as the expiration date.

Before the start of work on March 17, 2022, employers must reverify the employee's employment authorization in Section 3 of Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A-12 or C-19 and has a Card Expires date of September 17, 2021, on the front of the card.

If your employer determines that USCIS has automatically extended your EAD, your employer should update Section 2 of your previously completed Form I-9 as follows:

1. Write EAD EXT and March 16, 2022, as the last day of the automatic extension in the Additional Information field; and

2. Initial and date the correction.

Note: This is not considered a reverification. Employers do not complete Section 3 until either the 180-day automatic extension has ended, or the employee presents a new document to show continued employment authorization, whichever is sooner. By March 17, 2022, when the employee's automatically extended EAD has expired, employers are required by law to reverify the employee's employment authorization in Section 3.

If I am an employer enrolled in E-Verify, how do I verify a new employee whose EAD has been automatically extended?

Employers may create a case in E-Verify for a new employee by entering the number from the Document Number field on Form I-9 into the document number field in E-Verify. Employers should enter March 16, 2022, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on March 17, 2022, you must reverify their employment authorization in Section 3 of Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. Calls are accepted in English, Spanish, and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (TNC) must promptly inform employees of the TNC and give such employees an opportunity to contest the TNC. A TNC case result means that the information entered into E-Verify from an employee's Form I-9 differs from Federal or State government records.

Employers may not terminate, suspend, delay training, withhold or lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

For Federal purposes, TPS beneficiaries presenting an automatically extended EAD referenced in this Federal Register notice do not need to show any other document, such as an I-797C Notice of Action or this Federal Register notice, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine whether you have TPS or other immigration status. Examples of such documents are:

• Your current EAD;

• Your Form I-797, Notice of Action, reflecting approval of your Form I-765; or

• Your Form I-797, the notice of approval, for a past or current Form I-821, if you received one from USCIS.

Check with the government agency regarding which document(s) the agency will accept. Some benefit-granting agencies use USCIS' Systematic Alien Verification for Entitlements (SAVE) program to confirm the current immigration status of applicants for public benefits. While SAVE can verify when an individual has TPS, each agency's procedures govern whether they will accept an unexpired EAD, Form I-797, or Form I-94, Arrival/Departure Record. If an agency accepts the type of TPS-related document you are presenting, such as an EAD, the agency should accept your automatically extended EAD. It may assist the agency if you:

a. Present the agency with a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but, occasionally, verification can be delayed. You can check the status of your SAVE verification by using CaseCheck at save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted upon or will act upon a SAVE verification and you do not believe the SAVE response is correct, the SAVE website, www.uscis.gov/save, has detailed information on how to make corrections or update your immigration record, make an appointment, or submit a written request to correct records.

[FR Doc. 2021-15595 Filed 7-21-21; 8:45 am]

BILLING CODE 9111-97-P